DEPARTMENT OF ENERGY

Federal Energy Regulatory Commission

[Docket No. RP01-607-000]

Questar Pipeline Company; Notice of Tariff Filing

September 20, 2001.

Take notice that on September 17, 2001, pursuant to 18 CFR 154.7, Questar Pipeline Company (Questar) tendered for filing and acceptance, to be effective October 15, 2001, Third Revised Sheet No. 202 and Second Revised Sheet No. 203 to First Revised Volume No. 1 of its FERC Gas Tariff (Questar's tariff).

Questar's Questline Access Agreement form in its FERC Gas Tariff, that provides access to Questar's interactive web site, contains outdated language that applied to transportation contracts before they were converted to open-access contracts. Those contracts were converted to open-access contracts in compliance with the Commission's Order No. 636. This filing deletes the outdated language, which comprises Section 15 and related language on Attachment A in Questar's Questline Access Agreement.

Questar states that a copies of this filing are being mailed to its customers, state commissions and other interested parties.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments protests and interventions may be filed electronically via the Internet in lieu of paper. See, 18 CFR 385.2001(a)(1)(iii) and the instructions on the Commission's web site under the “e-Filing” link.

David P. Boergers,
Secretary.

[FR Doc. 01-24009 Filed 9-25-01; 8:45 am]

BILLING CODE 6717-01-M